DEPARTMENT OF COMMERCE

Bureau of Economic Analysis

Agency Information Collection Activities; Submission to the Office of Management and Budget (OMB) for Review and Approval; Comment Request; Direct Investment Surveys: BE-15, Annual Survey of Foreign Direct Investment in the United States

AGENCY: Bureau of Economic Analysis, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 16, 2021.

ADDRESSES: Interested persons are invited to submit written comments to Ricardo Limes, Chief, Multinational Operations Branch (BE-69), Bureau of Economic Analysis, U.S. Department of Commerce, by email to Ricardo.limes@bea.gov and PRAcomments@doc.gov. Please reference OMB Control Number 0608-0034 in the subject line of your comments. Do not submit Confidential Business Information or otherwise sensitive or protected information.

FOR FURTHER INFORMATION CONTACT: Requests for additional information or specific questions related to collection activities should be directed to Ricardo Limes, Chief, Multinational Operations Branch (BE-69), Bureau of Economic Analysis; via phone at (301) 278-9659; or via email at Ricardo.Limes@bea.gov.

SUPPLEMENTARY INFORMATION:

I. Abstract

The Annual Survey of Foreign Direct Investment in the United States (BE-15) obtains sample data on the financial structure and operations of foreign-owned U.S. business enterprises. The data are needed to provide reliable, useful, and timely measures of foreign direct investment in the United States to assess its impact on the U.S. economy. The sample data are used to derive universe estimates in non-benchmark years from similar data reported in the BE-12 benchmark survey, which is conducted every five years. The data collected include balance sheets; income statements; property, plant, and equipment; employment and employee compensation; merchandise trade; sales of goods and services; taxes; and research and development activity for the U.S. operations. In addition to these national data, several data items are collected by state, including employment and property, plant, and equipment.

The Bureau of Economic Analysis (BEA) is not proposing any changes to the BE-15 survey.

II. Method of Collection

BEA contacts potential respondents by mail in March of each year; responses covering a reporting company's fiscal year ending during the previous calendar year are due by May 31 (or by June 30 for respondents that file using BEA's eFile system). Reports are required from each U.S. business enterprise in which a foreign person has at least 10 percent of the voting stock in an incorporated business enterprise, or an equivalent interest in an unincorporated business enterprise, and that meets the additional conditions detailed in the BE-15 forms and instructions. Entities required to report will be contacted individually by BEA. Entities not contacted by BEA have no reporting responsibilities.

BEA offers electronic filing through its eFile system for use in reporting on the BE-15 annual survey forms. In addition, BEA posts all its survey forms and reporting instructions on its website (www.bea.gov/fdi). These may be downloaded, completed, printed, and submitted via fax or mail.

Potential respondents of the BE-15 are selected from those U.S. business enterprises that were required to report on the 2017 BE-12, Benchmark Survey of Foreign Direct Investment in the United States, along with those U.S. business enterprises that subsequently entered the direct investment universe. The BE-15 is a sample survey; universe estimates are developed from the reported sample data.

III. Data

OMB Control Number: 0608-0034.

Form Number: BE-15.

Type of Review: Regular submission, reinstatement without change.

Affected Public: Business or other for-profit organizations.

Estimated Number of Respondents: 6,600 annually, of which approximately 3,300 file A forms, 1,600 file B forms, 1,200 file C forms, and 500 file Claim for Exemption forms.

Estimated Total Annual Burden Hours: 156,875 hours. Total annual burden is calculated by multiplying the estimated number of submissions of each form by the average hourly burden per form, which is 44.75 hours for the A form, 3.75 hours for the B form, 2.25 hours for the C form, and 1 hour for the Claim for Exemption form.

Estimated Time per Respondent: 23.8 hours per respondent (156,875 hours/6,600 respondents) is the average but may vary considerably among respondents because of differences in company size and complexity.

Estimated Total Annual Cost to Public: $0.

Respondent's Obligation: Mandatory.

Legal Authority: International Investment and Trade in Services Survey Act (Pub. L. 94-472, 22 U.S.C. 3101-3108, as amended).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-12705 Filed 6-15-21; 8:45 am]

BILLING CODE 3510-06-P